NATIONAL TRANSPORTATION SAFETY BOARD

49 CFR Part 821

[Docket No. NTSB-GC-2011-0001]

RIN 3147-AA00

Rules of Practice in Air Safety Proceedings; Correction

AGENCY: National Transportation Safety Board (NTSB or Board).

ACTION: Final rule; correction.

SUMMARY: The NTSB is correcting a final rule published September 19, 2013, which inadvertently included an incorrect pronoun. This correction is a minor change to ensure consistency in the NTSB's references to the Administrator of the Federal Aviation Administration.

DATES: Effective July 17, 2014.

ADDRESSES: Members of the public may contact the NTSB Office of General Counsel concerning this correction at 490 L'Enfant Plaza SW., Washington, DC 20594.

FOR FURTHER INFORMATION CONTACT: David Tochen, General Counsel, (202) 314-6080.

SUPPLEMENTARY INFORMATION: In its September 19, 2013, final rule implementing changes to 49 CFR 821.19, the NTSB finalized an amendment to paragraph (d) of that section. 78 FR 57527. In the revision of paragraph (d), paragraph (d)(1) contains the pronoun “it,” which refers to the noun “the Administrator.” This is incorrect. As a result, by this correction, the NTSB makes a technical correction to this sentence, to use the correct pronoun in the sentence.

List of Subjects in 49 CFR Part 821

Administrative practice and procedure, Airmen, Aviation safety.

Accordingly, the NTSB amends 49 CFR part 821 by making the following correcting amendment:

PART 821—RULES OF PRACTICE IN AIR SAFETY PROCEEDINGS

1. The authority citation for part 821 continues to read as follows:

Authority: 49 U.S.C. 1101-1155, 44701-44723, 46301, Pub. L. 112-153, unless otherwise noted.

2. In § 821.19, revise paragraph (d) to read as follows:

§ 821.19 Depositions and other discovery.

* * * * *

(d) Failure to provide copy of releasable portion of Enforcement Investigative Report (EIR). (1) Except as provided in § 821.55 with respect to emergency proceedings, where the respondent requests the EIR and the Administrator fails to provide the releasable portion of the EIR to the respondent by the time he or she serves the complaint on the respondent, the respondent may move to dismiss the complaint or for other relief and, unless the Administrator establishes good cause for that failure, the law judge shall order such relief as he or she deems appropriate, after considering the parties' arguments.

(2) The releasable portion of the EIR shall include all information in the EIR, except for the following:

(i) Information that is privileged;

(ii) Information that constitutes work product or reflects internal deliberative process;

(iii) Information that would disclose the identity of a confidential source;

(iv) Information of which applicable law prohibits disclosure;

(v) Information about which the law judge grants leave to withhold as not relevant to the subject matter of the proceeding or otherwise, for good cause shown; or

(vi) Sensitive security information, as defined at 49 U.S.C. 40119 and 49 CFR 15.5.

(3) Nothing in this section shall be interpreted as preventing the Administrator from releasing to the respondent information in addition to that which is contained in the releasable portion of the EIR.

Christopher A. Hart,
Acting Chairman.

[FR Doc. 2014-16710 Filed 7-16-14; 8:45 am]

BILLING CODE 7533-01-P